DEPARTMENT OF TRANSPORTATION

Federal Railroad Administration

[Docket No. FRA-2018-0008-N-10]

Proposed Agency Information Collection Activities; Comment Request

AGENCY: Federal Railroad Administration (FRA), Department of Transportation (DOT).

ACTION: Notice of information collection; request for comment.

SUMMARY: Under the Paperwork Reduction Act of 1995 (PRA), this notice announces that FRA is forwarding the Information Collection Requests (ICRs) abstracted below to the Office of Management and Budget (OMB) for review and comment. The ICRs describe the information collections and their expected burden. On August 1, 2018, FRA published a notice providing a 60-day period for public comment on the ICRs.

DATES: Interested persons are invited to submit comments on or before November 29, 2018.

ADDRESSES: Submit written comments on the ICRs to the Office of Information and Regulatory Affairs, Office of Management and Budget, 725 17th Street NW, Washington, DC 20503, Attention: FRA Desk Officer. Comments may also be sent via email to OMB at the following address: oira_submissions@omb.eop.gov.

FOR FURTHER INFORMATION CONTACT: Mr. Robert Brogan, Information Collection Clearance Officer, Office of Railroad Safety, Regulatory Analysis Division, RRS-21, Federal Railroad Administration, 1200 New Jersey Avenue SE, Room W33-497, Washington, DC 20590 (telephone: (202) 493-6292); or Ms. Kim Toone, Information Collection Clearance Officer, Office of Administration, Office of Information Technology, RAD-20, Federal Railroad Administration, 1200 New Jersey Avenue SE, Room W34-212, Washington, DC 20590 (telephone: (202) 493-6132).

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On August 1, 2018, FRA published a 60-day notice in the Federal Register soliciting comment on the ICRs for which it is now seeking OMB approval. See 83 FR 37606. FRA received no comments in response to this notice.

Before OMB decides whether to approve these proposed collections of information, it must provide 30 days for public comment. Federal law requires OMB to approve or disapprove paperwork packages between 30 and 60 days after the 30-day notice is published. 44 U.S.C. 3507(b)-(c); 5 CFR 1320.12(d); see also 60 FR 44978, 44983, Aug. 29, 1995. OMB believes the 30-day notice informs the regulated community to file relevant comments and affords the agency adequate time to digest public comments before it renders a decision. 60 FR 44983, Aug. 29, 1995. Therefore, respondents should submit their respective comments to OMB within 30 days of publication to best ensure having their full effect.

Comments are invited on the following ICRs regarding: (1) Whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summaries below describe the ICRs that FRA will submit for OMB clearance as the PRA requires:

Title: Railroad Locomotive Safety Standards and Event Recorders.

OMB Control Number: 2130-0004.

Abstract: The Locomotive Safety Standards at 49 CFR part 229 require railroads to inspect, repair, and maintain locomotives, including their event recorders, to ensure they are safe and free of defects. Crashworthy locomotive event recorders provide FRA with verifiable factual information about how trains are operated. These devices are used by FRA and State inspectors for part 229 rule enforcement. The information garnered from crashworthy event recorders is used by railroads to monitor railroad operations and by railroad employees (locomotive engineers, train crews, dispatchers) to improve train handling, and promote the safe and efficient operation of trains throughout the country, based on a surer knowledge of different control inputs.

Type of Request: Extension with change of a current information collection.

Affected Public: Businesses (railroads).

Form(s): FRA F 6180.49A.

Respondent Universe: 741 Railroads.

Frequency of Submission: On occasion.

Total Estimated Annual Responses: 7,509,648.

Total Estimated Annual Burden: 3,815,751 hours.

Title: Railroad Signal System Requirements.

OMB Control Number: 2130-0006.

Abstract: The regulations pertaining to railroad signal systems are contained in 49 CFR parts 233 (Signal System Reporting Requirements), 235 (Instructions Governing Applications for Approval of a Discontinuance or Material Modification of a Signal System), and 236 (Rules, Standards, and Instructions Governing the Installation, Inspection, Maintenance, and Repair of Signal and Train Control Systems, Devices, and Appliances). Section 233.5 provides that each railroad must report to FRA within 24 hours after learning of an accident or incident arising from signal failure (e.g., failure of a signal appliance, device, method or system to function or indicate as required by 49 CFR part 236 that results in a more favorable aspect than intended) or other condition hazardous to the movement of a train. Section 233.7 provides that each railroad must report signal failures within 15 days in accordance with the instructions printed on Form FRA F 6180.14.

Title 49 CFR part 235 sets forth the specific conditions under which FRA will approve the modification or discontinuance of railroad signal systems. These regulations also describe the process that should be followed by a railroad to seek such an approval. The application process prescribed under 49 CFR part 235 enables FRA to obtain the necessary information to make logical and informed decisions concerning railroad requests to modify or discontinue signaling systems. Section 235.5 requires railroads to apply for FRA approval to discontinue or materially modify railroad signal systems. However, section 235.7 cites signal system changes that do not require FRA approval such as removal of an interlocking where a drawbridge has been permanently closed by the formal approval of another governmental agency. Section 235.8 allows railroads to seek relief from the requirements in 49 CFR part 236. Sections 235.10, 235.12, and 235.13 explain where the application must be submitted, what information must be included, what the format should be, and who is authorized to sign the application. FRA provides public notice concerning applications for relief and allows individuals and organizations to protest the granting of an application for relief. Section 235.20 describes the protest process, including essential information that must accompany the protest, the address for filing the protest, the time limit for filing the protest, and the requirement that a person requesting a public hearing explain why written statements cannot be used to explain his or her position.

Title 49 CFR part 236 contains FRA's signal system requirements. Section 236.110 requires that the results of signal system tests required under §§ 236.102 through 236.109; 236.376 through 236.387; 236.576 and 236.577; and 236.586 through 236.589 be recorded on pre-printed forms provided by the railroad or by electronic means, subject to FRA approval. These forms show the name of the railroad, place and date of the test conducted, type of equipment tested, and results of the test. They also describe any repairs, replacements, and adjustments performed on the equipment that has been tested, and the condition in which the equipment was left. This section also requires that the employee conducting the test must sign the form and that the record be retained at the office of the supervisory official. Test results made in compliance with § 236.587 must be retained for 92 days. The results of all other tests required under §§ 236.102 through 109; 236.376 through 236.387; 236.576 and 236.577; and 236.586 through 236.589, including results of periodic tests, must be retained until the next record is filed, but no less than one year. Additionally, § 236.587 requires each railroad to make a departure test of the cab signal, automatic train stop, or train control devices on locomotives prior to a locomotive entering equipped territory. This section further requires that whoever performs the departure test must certify in writing that the test was properly performed. The certification and test results must be posted in the locomotive cab with a copy of the certification and test results retained at the office of the supervisory official. However, if it is impractical to leave a copy of the certification and test results at the location where the test is conducted, then the test results must be transmitted to either the dispatcher or another designated official who must keep a written record of the test results and the name of the person performing the test. All records prepared under this section are required to be retained for 92 days. Finally, § 236.590 requires railroads to clean and inspect the pneumatic apparatus of automatic train stop, train control, or cab signal devices on locomotives as required by § 229.29(a).

Type of Request: Extension with change of a currently approved information collection.

Affected Public: Businesses.

Form(s): FRA F 6180.14.

Respondent Universe: 741 Railroads.

Frequency of Submission: On occasion.

Total Estimated Annual Responses: 1,673,437.

Total Estimated Annual Burden: 444,820 hours.

Title: Inspection Brake System Safety Standards for Freight and Other Non-Passenger Trains and Equipment (Power Brakes).

OMB Control Number: 2130-0008.

Abstract: Recognizing the importance of upgrading rail technologies, Congress in 1980 passed the Rock Island Railroad Transition and Employee Assistance Act (the “Rock Island Act”), which, inter alia, provides statutory relief for the implementation of new technologies. More specifically, when certain statutory requirements preclude the development or implementation of more efficient railroad transportation equipment or other transportation innovations, the applicable section of the Rock Island Act, currently codified at 49 U.S.C. 20306, provides the Secretary of Transportation with the authority to grant an exemption to those requirements based on evidence received and findings developed at a hearing. In accordance with that statute, FRA held a public hearing and invoked its discretionary authority under 49 U.S.C. 20306 to provide a limited exemption from 49 U.S.C. 20303 for freight trains and freight cars operating with electronically controlled pneumatic (ECP) brake systems. In doing so, FRA revised the regulations governing freight power brakes and equipment in October 2008 by adding a new subpart G. The revisions are designed to provide for and encourage the safe implementation and use of ECP brake system technologies. These revisions contain specific requirements on the design, interoperability, training, inspection, testing, handling of defective equipment, and periodic maintenance related to ECP brake systems. The final rule also provides flexibility to facilitate the voluntary adoption of this advanced brake system technology. The collection of information is used by FRA to monitor and enforce regulatory requirements related to power brakes on freight cars, including the requirements related to ECP brake systems. The collection of information is also used by locomotive engineers and road crews to verify that the terminal air brake test has been performed in a satisfactory manner.

Type of Request: Extension with change of a currently approved information collection.

Affected Public: Businesses.

Form(s): N/A.

Respondent Universe: 741 Railroads.

Frequency of Submission: On occasion.

Total Estimated Annual Responses: 30,518,808.

Total Estimated Annual Burden: 1,045,478 hours.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Juan D. Reyes III,
Chief Counsel.

[FR Doc. 2018-23586 Filed 10-29-18; 8:45 am]

BILLING CODE 4910-06-P